DEPARTMENT OF VETERANS AFFAIRS

Advisory Committee on Minority Veterans; Notice of Meeting

The Department of Veterans Affairs (VA) gives notice under the Public Law 92-463 (Federal Advisory Committee Act) that a meeting of the Advisory Committee on Minority Veterans will be held on December 6-8, 2005 in the Monticello Room at the Crowne Plaza Hotel, 1480 Crystal Drive, Arlington, Virginia. The sessions will begin at 9 a.m. each day. The sessions will end at 2 p.m. on December 6, 5 p.m. on December 7 and 1 p.m. on December 8. The meeting is open to the public.

The purpose of the Committee is to advise the Secretary on the administration of VA benefits and services to minority veterans, to assess the needs of minority veterans and to evaluate whether VA compensation, medical and rehabilitation services, outreach, and other programs are meeting those needs. The Committee will make recommendations to the Secretary regarding such activities.

On December 6, the Committee will hold discussions with key staff members of the Veterans Health Administration and the VA Office of Human Resources and Administration regarding healthcare challenges and successes, as well as hiring practices for minority veterans. Additionally, the Committee will meet with staff of the National Guard Bureau regarding transition concerns for returning combat wounded Operation Enduring Freedom/Operation Iraqi Freedom Service members.

On December 7, the Committee will meet with staff members of the Veterans Benefits Administration regarding benefit services and delivery of benefits to minority veterans. The Committee will also discuss burial benefits delivery for minority veterans with staff members of the National Cemetery Administration.

On December 8, the Committee will engage in discussions with the Executive Director of the Veterans Disability Benefits Commission and the Director of the VA Office of Small and Disadvantaged Business Utilization.

The Committee will accept written comments from interested parties on issues outlined in the meeting agenda, as well as other issues affecting minority veterans. Such comments should be referred to the Committee at the following address: Advisory Committee on Minority Veterans, Center for Minority Veterans (00M), U.S. Department of Veterans Affairs, 810 Vermont Avenue, NW., Washington, DC 20420.

For additional information about the meeting, please contact Ms. Elizabeth Olmo at (202) 273-6708.

Dated: November 8, 2005.
By Direction of the Secretary.
E. Philip Riggin,
Committee Management Officer.

[FR Doc. 05-22761 Filed 11-16-05; 8:45 am]

BILLING CODE 8320-01-M